FEDERAL COMMUNICATIONS COMMISSION

47 CFR Part 64

[CC Docket No. 98-67, CG Docket No. 03-123; DA 04-3709]

Expiration of Waiver of Three-Way Calling Requirement for Providers of Telecommunications Relay Services

AGENCY: Federal Communications Commission.

ACTION: Expiration of waiver; request for comment.

SUMMARY: In this document, the Commission announces that the one-year waiver of the requirement that telecommunications relay service (TRS) providers (including providers of captioned telephone service) offer three-way calling will expire on February 25, 2005. This document seeks comment on whether TRS providers will be able to offer this feature as of that date, or whether it is necessary to extend this waiver. This document also seek comment on whether, instead of a waiver, the requirement might be modified or clarified, and, if so, how.

DATES: One-year waiver expires February 25, 2005. Interested parties may file comments in this proceeding on or before December 17, 2004. Reply comments may be filed on or before December 30, 2004.

ADDRESSES: Federal Communications Commission, 445 12th Street, SW., Washington, DC 20554.

FOR FURTHER INFORMATION CONTACT: Dana Jackson, Consumer & Governmental Affairs Bureau, Disability Rights Office at (202) 418-2247 (voice), (202) 418-7898 (TTY), or e-mail at Dana.Jackson@fcc.gov.

SUPPLEMENTARY INFORMATION: On July 17, 2003, the Commission released a Second Report and Order, Order on Reconsideration (Second Improved TRS Order), published at 68 FR 50973, August 25, 2003, in CC Docket No. 98-67; FCC 03-112. In the Second Improved TRS Order, the Commission required that TRS providers offer three-way calling as a standard feature of TRS. This is a summary of the Commission's document DA 04-3709, released November 30, 2004. When filing comments on expiration of waiver of three-way calling requirement for providers of TRS, please reference CC Docket No. 98-67 and CG Docket No. 03-123. Comments may be filed using the Commission's Electronic Comment Filing System (ECFS) or by filing paper copies. See Electronic Filing of Documents in Rulemaking Proceedings, 63 FR 24121, May 1, 1998. Comments filed through the ECFS can be sent as an electronic file via the Internet to http://www.fcc.gov/e-file/ecfs.html. Generally, only one copy of an electronic submission must be filed. If multiple docket or rulemaking numbers appear in the caption of this proceeding, however, commenters must transmit one electronic copy of the comment and reply comment to each docket or rulemaking number referenced in the caption. In completing the transmittal screen, commenters should include their full name, Postal Service mailing address, and the applicable docket or rulemaking number. Parties may also submit electronic comment and reply comment by Internet e-mail. To get filing instructions, commenters should send an e-mail to ecfs@fcc.gov, and should include the following words in the body of the message, “get form <your e-mail address>.” A sample form and directions will be sent in reply. Parties who choose to file by paper must file an original and four copies of each filing. If more than one docket or rulemaking number appears in the caption of this proceeding, commenters must submit two additional copies for each additional docket or rulemaking number. Filings can be sent by hand or messenger delivery, by electronic media, by commercial overnight courier, or by first-class or overnight U.S. Postal Services mail (although we continue to experience delays in receiving U.S. Postal Service mail). The Commission's contractor, Natek, Inc., will receive hand-delivered or messenger-delivered paper filings or electronic media for the Commission's Secretary at 236 Massachusetts Avenue, NE., Suite 110, Washington, DC 20002. The filing hours at this location are 8 a.m. to 7 p.m. All hand deliveries must be held together with rubber bands or fasteners. Any envelopes must be disposed of before entering the building. Commercial and electronic media sent by overnight mail (other than U.S. Postal Service Express Mail and Priority Mail) must be sent to 9300 East Hampton Drive, Capitol Heights, MD 20743. U.S. Postal Service first-class mail, Express Mail, and Priority Mail should be addressed to 445 12th Street, SW., Washington, DC 20554. All filings must be addressed to the Commission's Secretary, Marlene H. Dortch, Office of the Secretary, Federal Communications Commission, 445 12th Street, SW., Room TW-B204 Washington, DC 20554. Parties who choose to file by paper should also submit their comment and reply comment on diskette. These diskettes should be submitted, along with three paper copies, to: Dana Jackson, Consumer & Governmental Affairs Bureau, Disability Rights Office, 445 12th Street, SW., Room CY-A626, Washington, DC 20554. Such a submission should be on a 3.5 inch diskette formatted in an IBM compatible format using Word 97 or compatible software. The diskette should be accompanied by a cover letter and should be submitted in “read only” mode. The diskette should be clearly labeled with the commenter's name, proceeding (including the lead docket number in this case, CC Docket No. 98-67 and CG Docket No. 03-123, type of pleading (comment or reply comment), date of submission, and the name of the electronic file on the diskette. The label should also include the following phrase “Disk Copy—Not an Original.” Each diskette should contain only one party's pleadings, preferably in a single electronic file. In addition, commenters must send diskette copies to the Commission's copy contractor, Best Copy and Printing (BCPI), Inc., Portals II, 445 12th Street, SW., Room CY-B402, Washington, DC 20554. Pursuant to section 1.1206 of the Commission's rules, 47 CFR 1.1206, this proceeding will be conducted as a permit-but-disclose proceeding in which ex parte communications are subject to disclosure. The full text of this document and copies of any subsequently filed documents in this matter will be available for public inspection and copying during regular business hours at the FCC Reference Information Center, Portals II, 445 12th Street, SW., Room CY-A257, Washington, DC 20554. This document and copies of subsequently filed documents in this matters may also be purchased from the Commission's duplicating contract, BCPI, Inc., Portals II, 445 12th Street, SW., Room CY-B402, Washington, DC 20554. Customers may contact BCPI, Inc. at their Web site http://www.bcpiweb.com or call 1-800-378-3160. To request materials in accessible formats for people with disabilities (Braille, large print, electronic files, audio format), send an e-mail to fcc504@fcc.gov or call the Consumer & Governmental Affairs Bureau at (202) 418-0530 (voice), (202) 418-0432 (TTY). This document can also be downloaded in Word or Portable Document Format (PDF) at: http://www.fcc.gov/cgb/dro.

Synopsis

In the June 17, 2003 Second Improved TRS Order, the Commission required that TRS providers offer three-way calling as a standard feature of TRS. In the August 1, 2003 Declaratory Ruling, the Commission recognized captioned telephone service as a type of TRS. (See Telecommunications Relay Services and Speech-to-Speech Services for Individuals with Hearing and Speech Disabilities, published at 68 FR 55898, September 29, 2003, in CC Docket No. 98-67; FCC 03-190. The Declaratory Ruling did not waive the requirement that providers of captioned telephone service offer a three-way calling feature. On September 24, 2003, AT&T Corp. (AT&T) filed a petition for limited reconsideration of the Second Improved TRS Order. (See AT&T, AT&T Petition for Limited Reconsideration and for Waiver, CC Docket No. 98-67, CG Docket No. 03-123 (filed September 24, 2003)). AT&T requested that the Commission waive the three-way calling requirement adopted in the Second Improved TRS Order. AT&T asserted that it was not possible for the TRS facility to set up a three-way call, subject to clarification regarding how three-way calling may be provided in compliance with the Commission's TRS regulations. On December 11, 2003, Ultratec, Inc. and Sprint Corporation filed a petition seeking clarification that the three-way calling requirement either does not apply to captioned telephone service or that a TRS provider complies with the rule regardless of the method used to set up the three-way call. (See Petition for Clarification by Ultratec, Inc. and Sprint Corporation, CC Docket No. 98-67, CG Docket No. 03-123 (file December 11, 2003)). On February 24, 2004, in response to these petitions, the Consumer & Governmental Affairs Bureau released an Order waiving for one year the requirement that TRS providers (including providers of captioned telephone service) offer three-way calling. (Telecommunications Relay Services and Speech-to-Speech Services for Individuals with Hearing and Speech Disabilities, CC Docket 98-67, DA 04-465, 19 FCC Rcd 2993 (February 24, 2004)). In view of the pending expiration date of the one-year February 24, 2004, waiver, the Commission now seek comment on whether this waiver should be left to expire or be extended, or whether the rule should be modified or clarified and, if so, how.

Federal Communications Commission.
Jay Keithley,
Deputy Chief, Consumer & Governmental Affairs Bureau.

[FR Doc. 05-651 Filed 1-12-05; 8:45 am]

BILLING CODE 6712-01-P